DEPARTMENT OF HOMELAND SECURITY

Bureau of Citizenship and Immigration Services

[CIS No. 2268-03]

Implementation of Class Action Judgment in Proyecto San Pablo v. INS; Revised Form

AGENCY: Bureau of Citizenship and Immigration Services, Department of Homeland Security.

ACTION: Notice.

SUMMARY: On January 29, 2003, the former Immigration and Naturalization Service published a notice of the Federal Register at 68 FR 4518 notifying aliens who applied for legalization under section 245A of the Immigration and Nationality Act (Act) of their rights under the class action judgment in Proyecto San Pablo v. INS. The notice also included a Freedom of Information Act (FOIA) Request Form to be used by aliens under the Proyecto San Pablo judgment to request documents pursuant to FOIA to help in their effort to obtain a new decision on their legalization application. However, the form that was included in the notice and approved by the Federal District Court for requesting documents pursuant to FOIA, did not meet FOIA standards. Accordingly, this Notice provides for the use of an appended form that may be used under the Proyecto San Pablo judgment, to request documents pursuant to FOIA.

EFFECTIVE DATES: The notice is effective June 24, 2003.

FOR FURTHER INFORMATION CONTACT: Robert Raymond, Office of the General Counsel, Bureau of Citizenship and Immigration Services, 4251 I Street NW., Room 6109, Washington, DC 20536, telephone (202) 514-2895.

SUPPLEMENTARY INFORMATION: The appendix to this notice provides the FOIA Request Form that may be used in the Proyecto San Pablo Judgment for obtaining documents pursuant to FOIA. This appended form has been approved by the Federal District Court under the Proyecto San Pablo judgment.

Dated: May 15, 2003.
Eduardo Aguirre,
Acting Director, Bureau of Citizenship and Immigration Services.

Note: The appendix to this notice contains the FOIA request form provided for in the Proyecto judgment.

BILLING CODE 4410-10-M

[FR Doc. 03-15848 Filed 6-23-03; 8:45 am]

BILLING CODE 4410-10-C